Proclamation 8480 of March 1, 2010

Read Across America Day, 2010

By the President of the United States of America

A Proclamation

As the foundation that makes all other learning possible, literacy is the key to unlocking every child’s full potential. From riding a bus to opening a bank account, our everyday tasks and decisions require comprehension of the written word. On Read Across America Day, we reaffirm our commitment to investing in our children and giving them an essential tool for success in school and in life: the ability to read.

Today marks the birthday of the late Theodor Seuss Geisel, known to millions as Dr. Seuss. His imaginative tales have helped generations of children learn to read, and they hold a cherished place on bookshelves in homes across America. Authors like Dr. Seuss, whose stories introduce fantastical worlds and characters, fold joy into reading and help spark the curiosity that is central to learning.

While government must ensure that all our children receive a world-class education, parents and caregivers play a crucial role in preparing them—especially during early childhood. We can promote a positive relationship with books and language through everyday activities to make reading fun and interactive. When reading to young children, I urge all parents and caregivers to talk about what is happening in a story, point out details that relate to real life, and encourage them to ask about words they do not understand. Making regular trips to the library, playing word games, and simply keeping books around the home can foster a love of reading that will last a lifetime. We can also set a good example by turning off the television and picking up a book to read with or alongside our children.

On Read Across America Day, my Administration is partnering with the National Education Association to encourage families across our Nation to make reading a priority. Together, we can give our sons and daughters the knowledge and skills they need to compete in the global economy, and in doing so, secure a brighter future for America.

NOW, THEREFORE, I, BARACK OBAMA, President of the United States of America, by virtue of the authority vested in me by the Constitution and the laws of the United States, do hereby proclaim March 2, 2010, as Read Across America Day. I call upon children, families, educators, librarians, public officials, and all the people of the United States to observe this day with appropriate programs, ceremonies, and activities.

IN WITNESS WHEREOF, I have hereunto set my hand this first day of March, in the year of our Lord two thousand ten, and of the Independence of the United States of America the two hundred and thirty-fourth.

[FR Doc. 2010-4881

Filed 3-4-10; 8:45 am]

Billing code 3195-W0-P